DEPARTMENT OF TRANSPORTATION

Federal Aviation Administration

Noise-Exposure Map Notice: Receipt of Noise-Compatibility Program and Request for Review for Great Falls International Airport, Great Falls, MT

AGENCY: Federal Aviation Administration (FAA), DOT.

ACTION: Notice.

SUMMARY: The Federal Aviation Administration (FAA) announces its determination that the noise-exposure maps (NEM) submitted by the Director of Aviation for Great Falls International Airport under the provisions of 49 U.S.C. 47501 et seq. (Aviation Safety and Noise Abatement Act) and 14 CFR Part 150, are in compliance with applicable requirements. The FAA also announces that it is reviewing a proposed noise-compatibility program, submitted for Great Falls International Airport under Part 150, in conjunction with the noise-exposure map. This program will be approved or disapproved on or before August 9, 2007.

DATES: Effective Dates: The effective data of the FAA's determination on the noise-exposure maps and of the start of its review of the associated noise-compatibility program is February 13, 2007. The public comment period ends April 13, 2007.

FOR FURTHER INFORMATION CONTACT: Gary Gates, Federal Aviation Administration, Helena Airports District Office, 2725 Skyway Drive, Suite 2, Helena MT 59602, telephone 406-449-5271. Comments on the proposed noise-compatibility program also should be submitted to the above office.

SUPPLEMENTARY INFORMATION: This notice announces the FAA's finding that the noise-exposure maps submitted for Great Falls International Airport are in compliance with applicable requirements of Part 150, effective February 13, 2007. Further, the FAA is reviewing that airport's proposed noise-compatibility program, which will be approved or disapproved on or before August 13, 2007. This notice also announces the availability of this program for public review and comment.

Under 49 U.S.C., 47503 (the Aviation Safety and Noise Abatement Act, hereinafter referred to as “the Act”), an airport operator may submit to the FAA noise-exposure maps that meet applicable regulations and depict non-compatible land uses, as of the date of submission of such maps; a description of projected aircraft operations; and the ways in which such operations will affect such maps. The Act requires such maps to be developed in consultation with interested and affected parties in the local community, government agencies, and persons using the airport.

An airport operator who has submitted noise-exposure maps that are found by the FAA to be in compliance with the requirements of Federal Aviation Regulations (FAR), Part 150, promulgated pursuant to the Act, may submit to the FAA for approval a noise-compatibility program that sets forth measures the operator has taken or proposes to take to reduce existing non-compatible uses and prevent the introduction of additional non-compatible uses.

The Director of Aviation for the Great Falls International Airport submitted to the FAA on February 2, 2007, noise-exposure maps, descriptions and other documentation, produced during the Great Falls International Airport FAR Part 150 Study, dated September 2006. It was requested that the FAA review this material as the noise-exposure maps, as described in section 47503 of the Act, and that the noise-mitigation measures, to be implemented jointly by the airport and surrounding communities, be approved as a noise-compatibility program under section 47504 of the Act.

The FAA has completed its review of the noise-exposure maps and related descriptions submitted by the Director of Aviation for the Great Falls International Airport. The specific documentation determined to constitute the noise-exposure maps includes the following from the Great Falls International Airport Part 150 Noise-compatibility Study Update:

• Supplemental Chapter (pages xxi-xxv) describes updates to Forecasts of Aviation Activity.

• B Section describes prior forecasts of Aviation Activity.

• Section C describes the input data used to develop the existing and future contours.

• Section D describes Land Use Analysis.

• Section F describes the noise abatement alternative evaluation.

• Page F.16 includes revisions to Land Use and Noise Contour Map Analysis.

• Figure F.7, page F.19—Existing (2005) Existing Noise-exposure Map.

• Figure G-1, page G.3—Future (2016) Noise-exposure Map.

• Section G summarizes Actions and Recommendations.

• Section H—Public and Airport User Consultation Summary.

• Appendix 2—Public Hearing Comments and Responses.

• Appendix 5—Comments Outside the Public Hearing Comment Period.

The FAA has determined that these maps for Great Falls International Airport are in compliance with applicable requirements. This determination is effective on February 13, 2007. The FAA's determination on an airport operator's noise-exposure maps is limited to a finding that the maps were developed in accordance with the procedures contained in appendix A of FAR Part 150. Such determination does not constitute approval of the applicant's data, information or plans, or a commitment to approve a noise-compatibility program or to fund the implementation of that program.

If questions arise concerning the precise relationship of specific properties to noise-exposure contours depicted on a noise-exposure map submitted under section 47503 of the Act, it should be noted that the FAA is not involved in any way in determining the relative locations of specific properties with regard to the depicted noise contours, or in interpreting the noise-exposure maps to resolve questions concerning, for example, which properties should be covered by the provisions of section 47506 of the Act. These functions are inseparable from the ultimate land use control and planning responsibilities of local government. These local responsibilities are not changed in any way under Part 150 or through the FAA's review of noise-exposure maps. Therefore, the responsibility for the detailed overlaying of noise-exposure contours onto the map depicting properties on the surface rests exclusively with the airport operator that submitted those maps, or with those public agencies and planning agencies with which consultation is required under section 47503 of the Act. The FAA has relied on the certification by the airport operator, under section 150.21 of FAR Part 150, that the statutorily required consultation has been accomplished.

The FAA has formally received the noise-compatibility program for Great Falls International Airport, also effective on February 13, 2007. Preliminary review of the submitted material indicates that it conforms to the requirements for the submittal of noise-compatibility programs, but requires further review prior to approval or disapproval of the program. The formal review period, limited by law to a maximum of 180 days, will be completed on or before August 13, 2007.

The FAA's detailed evaluation will be conducted under the provisions of 14 CFR Part 150, § 150.33. The primary considerations in the evaluation process are whether the proposed measures may reduce the level of aviation safety, create an undue burden on interstate or foreign commerce, or be reasonably consistent with obtaining the goal of reducing existing non-compatible land uses and preventing the introduction of additional non-compatible land uses.

Interested persons are invited to comment on the proposed program with specific reference to these factors. The FAA will consider, to the extent practicable, all comments, other than those properly addressed to local land-use authorities. Copies of the noise-exposure maps, the FAA's evaluation of the maps, and the proposed noise-compatibility program are available for examination at the following locations:

Federal Aviation Administration, Airports Division, 1601 Lind Avenue, SW.; Suite 315, Renton, Washington 98057-3356.

Federal Aviation Administration, Helena Airports District Office, 2725 Skyway Drive, Suite 2, Helena, MT 59602.

Great Falls International Airport, 2800 Terminal Drive, Great Falls, MT 59404.

Issued in Renton, Washington, on February 13, 2007.
Donna P. Taylor,
Manager, Airports Division, Northwest Mountain Region.

[FR Doc. 07-861 Filed 2-23-07; 8:45 am]

BILLING CODE 4910-13-M